DEPARTMENT OF LABOR

Employment and Training Administration

[TA-W-60,556]

Hitachi Electronic Devices (USA), Inc., Including On-Site Leased Workers of Action Staffing (American Services), Greenville, SC; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on February 16, 2007, applicable to workers of Hitachi Electronic Devices (USA), Inc., including on-site leased workers of Action Staffing, Greenville, South Carolina. The notice was published in the Federal Register on February 27, 2007 (72 FR 8795).

At the request of the State agency, the Department reviewed the certification for workers of the subject firm. The workers were engaged in the production of projection tubes for televisions.

New information provided by the subject firm, shows that American Services is the parent company of the leasing firm, Action Staffing. Leased workers separated from employment at the subject firm had their wages reported under the unemployment insurance (UI) tax account for American Services.

Accordingly, the Department is amending the certification to properly reflect this matter.

The intent of the Department's certification is to include all workers of Hitachi Electronic Devices (USA), Inc. who were adversely affected by increased imports.

The amended notice applicable to TA-W-60,556 is hereby issued as follows:

All workers of Hitachi Electronic Devices (USA), Inc., including on-site leased workers from Action Staffing, American Services, Greenville, South Carolina, who became totally or partially separated from employment on or after November 25, 2006, through February 16, 2009, are eligible to apply for adjustment assistance under Section 223 of the Trade Act of 1974, and are also eligible to apply for alternative trade adjustment assistance under Section 246 of the Trade Act of 1974.

Signed at Washington, DC, this 16th day of April 2007.
Linda G. Poole,
Certifying Officer, Division of Trade Adjustment Assistance.

[FR Doc. E7-7725 Filed 4-23-07; 8:45 am]

BILLING CODE 4510-FN-P